DEPARTMENT OF THE INTERIOR

Bureau of Land Management

[LLORB07000.L17110000.AL0000.LXSSH1060000.19X.HAG 19-0038]

Notice of Subcommittee Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) Public Lands Access Subcommittee will meet as indicated below.

DATES: The Public Lands Access Subcommittee will hold a public meeting on July 8, 2019 from 9 a.m. to 5 p.m. and July 9, 2019, from 8:30 a.m. to 3 p.m. at the Frenchglen School, in Frenchglen, Oregon.

ADDRESSES: Frenchglen School, Highway 205 South, Frenchglen, Oregon 97736. Written comments may be sent to the Burns District office, 28910 Highway 20 West, Hines, Oregon 97738.

FOR FURTHER INFORMATION CONTACT: Tara Thissell, Public Affairs Specialist, 28910 Highway 20 West, Hines, Oregon 97738; 541-573-4519; tthissell@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The SMAC was established August 14, 2001, pursuant to the Steens Mountain Cooperative Management and Protection Act of 2000 (Steens Act) (Pub. L. 106-399) to provide representative counsel and advice to the BLM regarding new and unique approaches to management of the land within the bounds of the Steens Mountain Cooperative Management and Protection Area (CMPA). The SMAC's Public Lands Access Subcommittee was established in 2015 and serves to research, discuss, and evaluate any public access issue in the Steens Mountain CMPA. Issues could relate to parking, hiking, motorized or non-motorized use, public to private land inholding routes and methods of travel, private to public land access by way of easement or other agreement, or purchase or exchange of public and private land for improved access and contiguous landscape. The Subcommittee reviews all aspects of any access issue, formulates suggestions for remedy, and proposes those solutions to the entire SMAC for further discussion and possible recommendation to the BLM. The July 8 agenda includes a field tour around the Steens Mountain Loop Road. The Subcommittee will visit and study several sites along the Road as time allows, including Fish Creek, the North Steens Equestion Campground site, Riddle Brothers Ranch, and South Steens Campground. The July 9 agenda includes a review of the Steens Mountain Cooperative Management and Protection Act of 2000; a discussion on the Nature's Advocate, LLC, Environmental Assessment; an opportunity for Subcommittee members to share information from their constituents and present research members have done between meetings; and, an update from the SMAC's Designated Federal Official. Any other matters that may reasonably come before the Subcommittee may also be included. For the field tour, travel will occur on a variety of road surfaces. High-clearance vehicles with quality tires are recommended. There may be some light hiking. The public must provide personal amenities and transporation, though car-pooling is encouraged.

A public comment period is available on Tuesday, July 9, at 12 p.m. Unless otherwise approved by the Subcommittee Chair, the public comment period will last no longer than 30 minutes, and each speaker may address the Subcommittee for a maximum of 5 minutes. Sessions may end early if all business items are accomplished ahead of schedule, or may be extended if discussions warrant more time.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Jeff Rose,
District Manager.

[FR Doc. 2019-12063 Filed 6-6-19; 8:45 am]

BILLING CODE 4310-33-P